DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Analysis of and Participation in Ocean Exploration Video Products.

OMB Control Number: 0648-xxxx.

Form Number(s): None.

Type of Request: Regular (request for a new information collection).

Number of Respondents: 2,000.

Average Hours per Response: 15 minutes or less.

Burden Hours: 563.

Needs and Uses: This request is for a new information collection. Telepresence uses satellite communication from ship to shore to bring the unknown ocean to the screens of scientists and the general public in their homes, schools or offices. With technology constantly evolving it is important to address the needs of the shore-based scientists and public to maintain a high level of participation. We will use voluntary surveys to identify the needs of users of data, best approaches to leverage expertise of shore based participants and to create a “Citizen Science” web portal for meaningful public engagement focused on ocean exploration.

Affected Public: Not-for-profit institutions; individuals or households.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: November 18, 2016.
Sarah Brabson,
NOAA PRA Clearance Officer.

[FR Doc. 2016-28258 Filed 11-22-16; 8:45 am]

BILLING CODE 3510-KD-P